DEPARTMENT OF HEALTH AND HUMAN SERVICES

Centers for Disease Control and Prevention

[Docket Number NIOSH-063B]

NIOSH Fire Fighter Fatality Investigation and Prevention Program (FFFIPP)

AGENCY: The National Institute for Occupational Safety and Health (NIOSH) of the Centers for Disease Control and Prevention (CDC), Department of Health and Human Services (HHS).

ACTION: Notice of public comment period.

SUMMARY: The National Institute for Occupational Safety and Health (NIOSH) of the Centers for Disease Control and Prevention (CDC) requests stakeholder input on the progress and future directions of the NIOSH Fire Fighter Fatality Investigation and Prevention Program (FFFIPP). NIOSH is seeking stakeholder input on the FFFIPP to ensure that the program is meeting the needs and expectations of the U.S. fire service, and to identify ways in which the program can be improved to increase its impact on the safety and health of fire fighters across the United States. NIOSH will compile and consider all comments received through the NIOSH docket and use them in making decisions on how to proceed with the FFFIPP.

DATES: Public Comment Period: Written or electronic comments must be received on or before July 29, 2011.

ADDRESSES: Written comments on the FFFIPP program and suggestions for enhancing the impact of the program and future directions should be submitted, identified by docket number NIOSH-063B, by any of the following methods:

• Mail: NIOSH Docket Office, Robert A. Taft Laboratories, MS-C34, 4676 Columbia Parkway, Cincinnati, OH 45226.

• Facsimile: (513) 533-8285.

• E-mail: nioshdocket@cdc.gov, or submitted using the on-line form available through the NIOSH docket at the following link: http://www.cdc.gov/niosh/docket/review/docket063B/default.html. E-mail attachments should be formatted in Microsoft Word. Comments should be submitted to NIOSH no later than July 29, 2011 and should reference Docket Number NIOSH-063B.

All information received in response to this notice will be available for public examination and copying at the NIOSH Docket Office, 4676 Columbia Parkway, Cincinnati, Ohio 45226. A complete electronic docket containing all comments submitted will be available on the NIOSH Web page at http://www.cdc.gov/niosh/docket, and comments will be available in writing by request. NIOSH includes all comments received without change in the docket and the electronic docket, including any personal information provided.

FOR FURTHER INFORMATION CONTACT: Paul Moore, NIOSH, Division of Safety Research (DSR), 1095 Willowdale Road, MS-1808, Morgantown, West Virginia 26505, PMoore@cdc.gov or fax (304) 285-5474, telephone (304) 285-5991.

SUPPLEMENTARY INFORMATION: NIOSH convened stakeholders' meetings in 1998, March 2006 and November 2008 to seek input to help guide the FFFIPP. The input provided by stakeholders at those meetings was very valuable in providing insight into stakeholder needs and expectations. NIOSH is again seeking stakeholder input through a public docket. There are several resources that may be useful to individuals and groups who would like to comment on the FFFIPP:

• The NIOSH FFFIPP Progress Report and Proposed Future Directions—2011. This document includes specific topics for stakeholder input. http://www.cdc.gov/niosh/fire/future2011.html

• The Strategic Plan for the NIOSH FFFIPP that was finalized in 2009 after public input. http://www.cdc.gov/niosh/fire/strategicplan2009.html

• The FFFIPP Web site that includes an overview of the FFFIPP, fatality investigation reports and other publications. http://www.cdc.gov/niosh/fire/

Dated:May 21, 2011.
John Howard,
Director, National Institute for Occupational Safety and Health, Centers for Disease Control and Prevention.

[FR Doc. 2011-13533 Filed 5-31-11; 8:45 am]

BILLING CODE 4163-19-P